DEPARTMENT OF TRANSPORTATION

Federal Aviation Administration

14 CFR Part 71

[Docket No. FAA-2011-0359; Airspace Docket No. 11-AWP-1]

Modification of Class D and E Airspace; Fort Huachuca, AZ

AGENCY: Federal Aviation Administration (FAA), DOT.

ACTION: Final rule.

SUMMARY: This action modifies Class D and Class E airspace at Fort Huachuca, AZ, to accommodate aircraft departing and arriving under Instrument Flight Rules (IFR) at Fort Huachuca, Sierra Vista Municipal Airport-Libby Army Airfield. This action, initiated by the biennial review of the Fort Huachuca airspace area, enhances the safety and management of aircraft operations at the airport. This action also updates the airport name.

DATES: Effective date, 0901 UTC, October 20, 2011. The Director of the Federal Register approves this incorporation by reference action under 1 CFR Part 51, subject to the annual revision of FAA Order 7400.9 and publication of conforming amendments.

FOR FURTHER INFORMATION CONTACT: Rick Roberts, Federal Aviation Administration, Operations Support Group, Western Service Center, 1601 Lind Avenue, SW., Renton, WA 98057; telephone (425) 203-4517.

SUPPLEMENTARY INFORMATION:

History

On May 20, 2011, the FAA published in the Federal Register a notice of proposed rulemaking to modify controlled airspace at Fort Huachuca, AZ (76 FR 29179). Interested parties were invited to participate in this rulemaking effort by submitting written comments on the proposal to the FAA. No comments were received.

Class D and E airspace designations are published in paragraph 5000, 6004 and 6005, respectively, of FAA Order 7400.9U dated August 18, 2010, and effective September 15, 2010, which is incorporated by reference in 14 CFR Part 71.1. The Class D and Class E airspace designations listed in this document will be published subsequently in that Order.

The Rule

This action amends Title 14 Code of Federal Regulations (14 CFR) Part 71 by modifying Class D airspace, and Class E airspace designated as an extension to Class D surface area, and airspace extending upward from 700 feet above the surface, at Fort Huachuca, AZ. The FAA's biennial review of the airspace found additional controlled airspace necessary for the safety and management of aircraft departing and arriving under IFR operations at Fort Huachuca, Sierra Vista Municipal Airport-Libby Army Airfield. This action updates the geographic coordinates to coincide with the FAA's aeronautical database, and changes the airport name from Fort Huachuca, Libby AAF/Sierra Vista Municipal Airport, to Fort Huachuca, Sierra Vista Municipal Airport-Libby Army Airfield. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it creates additional controlled airspace at Fort Huachuca, Sierra Vista Municipal Airport-Libby Army Airfield, Fort Huachuca, AZ.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 5000 Class D airspace.

* * * * *

AWP AZ D Fort Huachuca, AZ [Modified]

Fort Huachuca, Sierra Vista Municipal Airport-Libby Army Airfield, AZ

(Lat. 31°35′19″ N., long. 110°20′40″ W.)

That airspace extending upward from the surface to and including 7,200 feet MSL within a 4.7-mile radius of the airport. This Class D airspace is effective during the specific dates and times established in advance by a Notice to Airmen. The effective date and time will thereafter be continuously published in the Airport/Facility Directory.

Paragraph 6004 Class E airspace areas designated as an extension to Class D or Class E surface area.

* * * * *

AWP AZ E4 Fort Huachuca, AZ [Modified]

Fort Huachuca, Sierra Vista Municipal Airport-Libby Army Airfield, AZ

(Lat. 31°35′19″ N., long. 110°20′40″ W.)

That airspace extending upward from the surface within 1.6 miles each side of the Airport 088° bearing, extending from the 4.7-mile radius of the airport to 7 miles east of the airport, and that airspace extending upward from the surface within 1 mile each side of the Airport 270° bearing, extending from the 4.7-mile radius of the airport to 5.5 miles west of the airport. This Class E airspace area is effective during the specific dates and times established in advance by a Notice to Airmen. The effective date and time will thereafter be continuously published in the Airport/Facility Directory.

Paragraph 6005 Class E airspace areas extending upward from 700 feet or more above the surface of the earth.

* * * * *

AWP AZ E5 Fort Huachuca, AZ [Modified]

Fort Huachuca, Sierra Vista Municipal Airport-Libby Army Airfield, AZ

(Lat. 31°35′19″ N., long. 110°20′40″ W.)

That airspace extending upward from 700 feet above the surface within a 7.3-mile radius of the airport, and within 3.5 miles each side of the Airport 270° bearing extending 9 miles west of the airport, and that airspace 4 miles south and 8 miles north along the Airport 088° bearing extending 15.5 miles east of the airport, excluding that area within Restricted Area R-2312. That airspace extending upward from 1,200 feet above the surface within a 25-mile radius of Fort Huachuca-Sierra Vista Municipal Airport-Libby Army Airfield, excluding that area within Mexican airspace.

Issued in Seattle, Washington, on July 19, 2011.
John Warner,
Manager, Operations Support Group, Western Service Center.

[FR Doc. 2011-18947 Filed 7-27-11; 8:45 am]

BILLING CODE 4910-13-P